DEPARTMENT OF THE INTERIOR

Bureau of Land Management

[LLNV930000.L14300000.EU0000 241A; N-85116; 13-08807; MO# 4500053892; TAS: 14X5260]

Notice of Realty Action: Modified Competitive Sealed-Bid Sale of Public Land at Schoolhouse Butte (N-85116), Humboldt County, NV

AGENCY: Bureau of Land Management, Interior.

ACTION: Notice of realty action.

SUMMARY: The Bureau of Land Management (BLM) proposes to offer by modified competitive sealed-bid sale approximately 440 acres in the Desert Valley area of Humboldt County, Nevada, at no less than the fair market value (FMV) of $44,000. The sale will be conducted pursuant to the applicable provisions of Sections 203 and 209 of the Federal Land Policy and Management Act of 1976 (FLPMA), as amended, and BLM land sale and mineral conveyance regulations.

DATES: The BLM must receive written comments regarding the proposed sale on or before November 12, 2013. The BLM will accept sealed bids for the offered parcel until November 25, 2013 at 4:30 p.m., Pacific Time (PT), at the Winnemucca District Office. If the BLM determines to conduct the sale, the sealed bids would be opened on November 25, 2013 at the Winnemucca District Office at 9:00 a.m., PT.

ADDRESSES: Mail written comments regarding the proposed sale, as well as sealed bids, to the BLM Field Manager, Black Rock Field Office, 5100 East Winnemucca Boulevard, Winnemucca, NV 89445.

FOR FURTHER INFORMATION CONTACT: Julie McKinnon, Realty Specialist at email: julie_mckinnon@blm.gov, phone: 775-623-1734 or at the address in the ADDRESSES section. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The public lands proposed for sale include 11 parcels which will be sold as one unit. The lands are approximately 40 miles northwest of Winnemucca, Nevada, and are legally described as:

Mount Diablo Meridian, Nevada

T. 38 N., R. 32 E.,

Sec. 16, N½SW¼, SE¼SW¼, SW¼SE¼;

Sec. 17, NE¼SE¼;

Sec. 21, E½NE¼, NW¼NE¼, NE¼NW¼, S½SE¼.

The above described lands contain 440 acres, more or less, in Humboldt County, Nevada.

The identified lands are not required for any Federal purpose and are identified as suitable for disposal and are in compliance with the Paradise-Denio Management Framework Plan approved July 9, 1982, Paradise-Denio, Sonoma-Gerlach Lands Amendment approved January 15, 1999, and the 2012-01 Paradise-Denio, Sonoma Gerlach Lands Amendment Plan Maintenance documentation, which clarifies the parcel identification language in the previously approved 1999 Paradise-Denio, Sonoma-Gerlach Lands Plan Amendment.

A Decision Record and a Finding of No Significant Impact was signed July 20, 2010, for Environmental Assessment (EA) DOI-BLM-W010-2010-0006-EA which analyzed the direct, indirect and cumulative impacts of the proposed sale. Three responses were received on the EA with suggested clarifications which were incorporated in the document.

An improved county gravel road bisects those parcels in sections 16 and 17, otherwise the subject property and portions of the parcels do not have legal access or an authorized access right-of-way. Humboldt County has a site right-of-way for a man camp and water well to be used for domestic purposes, for times when they are performing road work in the area.

Due to the remoteness of these parcels, their proximity to DeLong Ranches private property, and a lack of access via a county road or authorized right-of-way to all of the parcels, it was determined a modified competitive sale would be the appropriate method of sale.

Delong Ranches, Inc., owns the abutting properties on the north, south, and west boundaries of the parcels. The parcels are within the Jackson Mountain grazing allotment in which the designated bidder has an active livestock grazing permit. In consideration of the adjoining landowner and historical uses of the parcel, the authorized officer has identified Delong Ranches, Inc., as the designated bidder for this proposed sale.

The use of the modified competitive sale method is consistent with 43 CFR 2711.3-2(a)(1)(i). Public lands may be offered for sale using modified competitive bidding procedures when the authorized officer determines it is necessary in order to assure equitable distribution of land among purchasers or to recognize equitable considerations or public policies. Modified competitive bidding includes, but is not limited to, offering designated bidders the right to meet the highest valid bid. Refusal or failure to meet the highest bid shall constitute a waiver of such bidding provisions. Factors to be considered in determining when modified competitive procedures shall be used include, but are not limited to, the needs of State and/or local government, adjoining landowners, historical users, and other needs for the parcel. This notice specifies the procedures for and method of modified competitive bidding, and a statement indicating the purpose or objective of the bidding procedures.

Sealed bids for the sale must include an amount not less than 20 percent of the total bid in the form of a certified check, postal money order, bank draft, cashier's check, or any combination thereof, and made payable to the Bureau of Land Management. Personal checks will not be accepted. Sealed bid envelopes must be clearly marked on the lower left corner with “SEALED BID BLM LAND SALE” and the identification number “BLM SERIAL NUMBER N-85116.” The bid envelope must also contain the completed BLM form, Certificate of Eligibility, stating the name, mailing address, and phone number of the entity/person making the bid.

Sealed bids will be opened and recorded to determine the high bidder. The highest qualifying bidder among the qualified bids received for the sale will be declared. The modified competitive sale process allows the designated bidder the opportunity to meet the high bid.

The designated bidder or their authorized representatives must be present at the bid opening. Should the designated bidder appoint a representative for this sale, they must submit in writing a notarized document identifying the level of capacity given to their designated representative. This document must be signed by both parties. The designated bidder or their authorized representative will have the opportunity to meet and accept the high bid as the purchase price of the parcel or to refuse that offer immediately following the bid opening. Should the designated bidder or their authorized representative refuse that offer, the high bid received through sealed bid will be declared the successful bid in accordance with regulations at 43 CFR 2711.3-2(c). Should the designated bidder meet the highest valid bid, a 20 percent deposit immediately following the close of the sale must be submitted in the form of a certified check, postal money order, bank draft, cashier's check, or any combination thereof, and made payable to the Bureau of Land Management. Acceptance or rejection of any offer to purchase will be in accordance with the procedures set forth in 43 CFR 2711.3.1-(f) and (g) of this subpart.

All funds submitted with sealed bids will be returned to the unsuccessful bidders upon presentation of photo identification at the designated area.

The successful bidder will be allowed 180 days from the date of the sale to submit the remainder of the full bid price in the form of a certified check, postal money order, bank draft, cashier's check, or any combination thereof, and made payable to the Bureau of Land Management. Personal checks will not be accepted. Arrangements for electronic fund transfer to the BLM for the payment balance due shall be made a minimum of 2 weeks prior to the payment date. Failure to submit the full bid price prior to the expiration of the 180th day following the sale date will result in the forfeiture of the 20 percent bid deposit to the BLM in accordance with 43 CFR 2711.3-1(d). No exceptions will be made. If there are no acceptable bids, the parcel may remain available for sale on a continuing basis in accordance with the competitive sale procedures described in 43 CFR 2711.3-1 without further legal notice.

Federal law requires that bidders must be: (a) A citizen of the United States 18 years of age or over; (b) A corporation subject to the laws of any State or of the United States; (c) A State, State instrumentality or political subdivision authorized to hold real property; or (d) An entity legally capable of conveying and holding lands or interests therein, under the laws of the State within which the lands to be conveyed are located. Where applicable, the entity shall also meet the requirements of paragraphs (a) and (b) of this section. U.S. citizenship is evidenced by presenting a birth certificate, passport, or naturalization papers. Failure to submit the above requested documents concurrently with the bid shall result in the ineligibility of the bidder.

Within 30 days of the sale, the BLM will provide written acceptance or rejection of all bids received. Pursuant to 43 CFR 2711.3-1, a bid is the bidder's offer to the BLM to purchase the parcel. No contractual or other rights against the United States may accrue until the BLM officially accepts the offer to purchase, and the full bid price is submitted by the 180th day following the sale. All name changes and supporting documentation must be received at the Winnemucca District Office within 30 days after the sale. Otherwise, the patent will be issued to the name(s) on the bidder statement that is completed and submitted. To change the name on the bidder statement, successful bidder must notify the Winnemucca District Office in writing, and submit a new bidder statement, which is available at the Winnemucca District Office or in the sale brochure, and is to be completed by the intended patentee.

Terms and Conditions: No minerals will be reserved to the United States in accordance with BLM approved Supplemental Mineral Potential Report, dated May 2008.

In January 2013, a memorandum to the file was completed, analyzing the initial and recent Mineral Potential Reports and concluded that the overall mineral potential of the studied area is low and that recent factors have not increased confidence in potential mineral economic viability.

Acceptance of the offer to purchase this parcel will constitute an application for conveyance of unreserved mineral interests. These unreserved mineral interests have been determined to have no known mineral value pursuant to 43 CFR 2720.0-6 and 2720.2(a). In conjunction with the final payment, the applicant for these “no known value” mineral interests will be required to pay a $50 non-refundable filing fee for processing the conveyance of these mineral interests which will be sold simultaneously with the surface interests.

Segregation: Pursuant to the requirements of 43 CFR 2711.1-2(d), the lands identified above will upon publication in the Federal Register of this notice be segregated from all appropriations under the public land laws, including the mining laws, except for the sale provisions of FLPMA. The segregation will terminate upon issuance of the patent, or upon publication in the Federal Register of a termination of the segregation or 2 years from the date of segregation whichever occurs first.

Upon successful completion of the sale, the patent issued would contain the following numbered reservations, covenants, terms and conditions:

1. A right-of-way thereon for ditches and canals constructed by authority of the United States, Act of August 30, 1890 (43 U.S.C. 945).

2. The sale lands are subject to all valid existing rights.

3. A right-of-way for a power line granted to Harney Electric Company, its successor or assignees, by right-of-way N-2346, pursuant to the Act of March 4, 1911, 36 Stat. 1253 (43 U.S.C. 961).

4. A right-of-way for an access road granted to Humboldt County, its successor or assignees, by right-of-way N-81443, pursuant to the Act of October 21, 1976, (43 U.S.C. 1716).

5. A right-of-way for a buried fiber optic cable granted to Oregon-Idaho Utilities Inc., its successor or assignees, by right-of-way N-88990, pursuant to the Act of October 21, 1976, (43 U.S.C. 1716).

6. A right-of-way for a road maintenance project (man camp and water well) granted to Humboldt County, its successor or assignees, by right-of-way N-61117, pursuant to the Act of October 21, 1976, (43 U.S.C. 1716).

7. By accepting this patent, the patentee agrees to indemnify, defend and hold the United States harmless from any costs, damages, claims, causes of action, penalties, fines, liabilities, and judgments of any kind or nature arising from the past, present, and future acts or omissions of the patentees, its employees, agents, contractors, or lessees, or any third-party, arising out of, or in connection with, the patentee's use, occupancy, or operations on the patented real property. This indemnification and hold harmless agreement includes, but is not limited to, acts and omissions of the patentee, its employees, agents, contractors, or lessees, or third party arising out of or in connection with the use and/or occupancy of the patented real property resulting in: (a) Violations of Federal, State, and local laws and regulations applicable to the real property; (b) Judgments, claims or demands of any kind assessed against the United States; (c) Costs, expenses, damages of any kind incurred by the United States; (d) Other releases or threatened releases on, into or under land, property and other interests of the United States by solid or hazardous waste(s) and/or hazardous substances(s), as defined by Federal or state environmental laws; (e) Other activities by which solid or hazardous substances or wastes, as defined by Federal and State environmental laws were generated, released, stored, used or otherwise disposed of on the patented real property, and any cleanup response, remedial action, or other actions related in any manner to said solid or hazardous substances or wastes; or (f) Natural resource damages as defined by Federal and State law. This covenant shall be construed as running with the patented real property, and may be enforced by the United States in a court of competent jurisdiction.

8. Pursuant to the requirements established by Section 120(h) of the Comprehensive Environmental Response, Compensation and Liability Act, 42 U.S.C. 9620(h) (CERCLA), as amended by the Superfund Amendments and Reauthorization Act of 1988, 100 Sta. 1670, notice is hereby given that the above described lands have been examined and no evidence was found to indicate that any hazardous substances have been stored for 1 year or more, nor have any hazardous substances been disposed of or released on the subject property.

No warranty of any kind, express or implied, is given by the United States as to title, whether or to what extent the land may be developed, its physical condition, future uses, or any other circumstance or condition. The conveyance of these parcels will not be on a contingency basis.

The parcels may be subject to land use applications received prior to publication of this notice if processing the application would have no adverse effect on the marketability of title, or the FMV of the parcels. Encumbrances of record, appearing in the case files for the parcel offered for sale, are available for review during business hours, 7:30 a.m. to 4:30 p.m. PT, Monday through Friday, at the Winnemucca District Office, except during federally recognized holidays.

Upon publication of this notice and until completion of the sale, the BLM is no longer accepting land use applications affecting the identified land, except applications for the amendment of previously filed right-of-way applications or existing authorizations to increase the term of the grant in accordance with 43 CFR 2807.15 and 2886.15. Land use applications may be considered after completion of the sale for these parcels if the parcels are not sold.

The BLM has notified valid existing right-of-way holders of their ability to convert their compliant rights-of-way to perpetual rights-of-way or easements. Each valid holder has been notified in writing of their rights and has applied for the conversion of their current authorization.

The BLM will not sign any documents related to 1031 Exchange transactions. The timing for completion of the exchange is the bidder's responsibility in accordance with Internal Revenue Services regulations. The BLM is not a party to any 1031 Exchange.

In order to determine the FMV, certain assumptions may have been made of the attributes and limitations of the land and potential effects of local regulations and policies on potential future land uses. Through publication of this notice, the BLM advises that these assumptions may not be endorsed or approved by units of local government. It is the buyer's responsibility to be aware of all applicable Federal, State, and local government laws, regulations, and policies that may affect the subject lands, including any required dedication of lands for public uses. It is the buyer's responsibility to be aware of existing or projected use of nearby properties. When conveyed out of Federal ownership, the lands will be subject to any applicable laws, regulations, and policies of the applicable local government for proposed future uses. It will be the responsibility of the purchaser to be aware through due diligence of those laws, regulations, and policies, and to seek any required approvals for future uses. Buyers should also make themselves aware of any Federal or State law or regulation that may impact the future use of the property. Any land lacking access from a public road or highway will be conveyed as such, and future access acquisition will be the responsibility of the buyer.

Information concerning the sale, appraisals, reservations, sale procedures and conditions, CERCLA, maps delineating the individual sale parcels, mineral potential report, Environmental Assessment, and other environmental documents is available for review at the Winnemucca District Office, by calling 775-623-1500 and asking to speak to Julie McKinnon, and online at: http://www.blm.gov/nv/st/en/fo/wfo.html.

Public Comments: Only written comments will be considered as properly filed. Before including your address, phone number, email address, or other personal identifying information in your comment, you should be aware that your entire comment—including your personal identifying information—may be made publicly available at any time. While you may ask us in your comment to withhold your personal identifying information from the public review, we cannot guarantee that we will be able to do so.

Any comments regarding the proposed sale will be reviewed by the BLM Nevada State Director, who may sustain, vacate, or modify this realty action. In the absence of any adverse comments, this realty action will become the final determination of the Department of the Interior.

Authority: 43 CFR 2710

Gene Seidlitz,
District Manager, Winnemucca.

[FR Doc. 2013-23339 Filed 9-24-13; 8:45 am]

BILLING CODE 4310-HC-P